DEPARTMENT OF STATE

[Public Notice No. 3467]

Shipping Coordinating Committee; Notice of Meeting

The Shipping Coordinating Committee will conduct an open meeting at 9:30 a.m. on Thursday, December 14, 2000, in Room 6103 of the U.S. Coast Guard Headquarters, 2100 2nd Street SW, Washington, DC 20593-0001. The purpose of the meeting is to finalize preparations for the 32nd Session of the International Maritime Organization (IMO) Sub-Committee on Standards of Training and Watchkeeping, which is scheduled for January 22 to 26, 2001, at IMO Headquarters in London. At this meeting, papers received and the draft U.S. positions will be discussed.

Among other things, the items of particular interest are:

— Training and certification of maritime pilots

— Unlawful practices associated with certificates of competency (i.e., forged certificates)

— Standard Marine Communication Phrases

— Training in the use of Electronic Chart Display and Information Systems

— Guidance for training in ballast water management

— Guidance for ships operating in ice-covered waters

— Validation of an IMO model course on assessment of competence

— Guidance associated with the International Convention on Standards of Training,

Certification and Watchkeeping for Fishing Vessel Personnel Convention, as adopted by the 1995 conference; not yet ratified or in force.

Members of the public may attend the meeting up to the seating capacity of the room. Interested persons may seek information by writing: LCDR Luke Harden, Commandant (G-MSO-1), U.S. Coast Guard Headquarters, Room 1210, 2100 2nd Street SW., Washington, DC 20593-0001 or by calling (202) 267-0229.

Dated: November 8, 2000.
Stephen Miller,
Executive Secretary Shipping Coordinating Committee.

[FR Doc. 00-29245 Filed 11-14-00; 8:45 am]

BILLING CODE 4210-07-P